DEPARTMENT OF ENERGY

Federal Energy Regulatory Commission

[Docket Nos. RP97-14-005 and GT00-16-001]

Midwestern Gas Transmission Company; Notice of Compliance Filing

April 18, 2000.

Take notice that on April 12, 2000, Midwestern Gas Transmission Company (Midwestern), tendered for filing as part of its FERC Gas Tariff, Second Revised Volume No. 1, the following tariff sheets, with an effective date of April 1, 2000:

Fifth Revised Sheet No. 52

Original Sheet No. 110B

Midwestern states that this filing is being made in compliance with the Commission's Letter Order issued on March 29, 2000 in the above-referenced dockets. Midwestern Gas Transmission Company, 90 FERC ¶ 61,302 (2000). Moreover, Midwestern provides the following description of the proposed Wheatland Power Station in accordance with Article V of the Gas Transportation Agreement:

Midwestern will construct facilities necessary to establish a new delivery point located in Knox County, Indiana on Midwestern's 2100 line for West Fork. Midwestern will own and operate the following: hot tap assembly, interconnect pipeline inside Midwestern's right-of way, electronic gas measurement, chromatograph and appurtenant facilities.

West Fork will own and operate the following: interconnect pipeline outside of Midwestern's right-of-way to the measurement site, lateral pipeline, filter/separator, liquids tank, cathodic protection and appurtenant facilities.

West Fork will own and Midwestern will operate the following: measurement and flow control.

Any person desiring to protest this filing should file a protest with the Federal Energy Regulatory Commission, 888 First Street NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-10102 Filed 4-21-00; 8:45 am]

BILLING CODE 6717-01-M